DEPARTMENT OF COMMERCE

[I.D. 081704B]

Submission for OMB Review; Comment Request

The Department of Commerce has submitted to the Office of Management and Budget (OMB) for emergency clearance the following proposal for collection of information under the provisions of the Paperwork Reduction Act (44 U.S.C. Chapter 35).

Agency: National Oceanic and Atmospheric Administration (NOAA).

Title: Northeast Multispecies Framework Adjustment 40A Permit Information Data Collection.

Form Number(s): None.

OMB Approval Number: None.

Type of Request: Emergency submission.

Burden Hours: -2,094.

Number of Respondents: 997.

Average Hour Per Response: Five seconds per automated position report from a vessel monitoring system; 5 minutes for a transmission for a days-at-sea declaration; and 2 minutes for an observer notification phone call.

Needs and Uses: The National Marine Fisheries Service is submitting the proposed rule to implement provisions contained within Framework Adjustment 40A to the Northeast Multispecies Fishery Management Plan. This submission requests clearance for the following provisions: (1) A Category B (regular) days-at-sea Pilot Program; (2) Closed Area I Hookgear Special Access Program (SAP); (3) Eastern United States/Canada SAP Pilot Program; and (4) Modifications to the Western United States/Canada Area Regulations.

Affected Public: Business or other for-profit organizations; individuals and households.

Frequency: On occasion; annual; twice hourly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent by August 25, 2004 to David Rostker, OMB Desk Officer, FAX number (202) 395-7285, or David_Rostker@omb.eop.gov.

Dated: August 11, 2004.
Gwellnar Banks,
Management Analyst, Office of the Chief Information Officer.

[FR Doc. 04-19272 Filed 8-20-04; 8:45 am]

BILLING CODE 3510-22-S